DEPARTMENT OF THE INTERIOR

Office of the Secretary: Sport Fishing and Boating Partnership Council Charter

AGENCY: Office of the Secretary, Interior.

ACTION: Notice of Renewal.

SUMMARY: This notice is published in accordance with the Federal Advisory Committee Act (Act). Following consultation with the General Services Administration, the Secretary of the Interior has renewed the Sport Fishing and Boating Partnership Council (Council) charter for 2 years.

FOR FURTHER INFORMATION CONTACT: Douglas Hobbs, Council Coordinator, U.S. Fish and Wildlife Service (Service), (703) 358-2336.

SUPPLEMENTARY INFORMATION: The purpose of the Council is to provide advice to the Secretary of the Interior through the Director, Fish and Wildlife Service to assist the Department of the Interior (Department) and the Service increase public awareness of the importance of aquatic resources and the social and economic benefits of recreational fishing and boating.

The Council will represent the interests of the sport fishing and boating constituencies and industries and will consist of no more than 18 members and up to 16 alternates appointed by the Secretary to assure a balanced, cross-sectional representation of public and private sector organizations. The Council will consist of two ex-officio members: Director, the Service, and the President, Association of Fish and Wildlife Agencies (AFWA). The 16 remaining members will be appointed at the Secretary's discretion to achieve balanced representation for recreational fishing and boating interests. The membership will comprise senior-level representatives of recreational fishing, boating, and aquatic resource conservation. These appointees must have demonstrated expertise and experience in one or more of the following areas of national interest groups: State fish and wildlife resource management agencies; saltwater and freshwater recreational fishing organizations; recreational boating organizations; recreational fishing and boating industries; recreational fishery resources conservation organizations; tribal resource management organization; aquatic resource outreach and education organizations; and tourism industry.

The Council will function solely as an advisory body and in compliance with provisions of the Act (5 U.S.C. Appendix 2). The certification for renewal is published below.

In accordance with the Act, we have filed a copy of the Council's charter with the Committee Management Secretariat; General Services Administration; Committee on Environmental and Public Works; United States Senate; Committee on Natural Resources; United States House of Representatives; and the Library of Congress.

Certification

I hereby certify that the renewal of the Sport Fishing and Boating Partnership Council is necessary and in the public interest in connection with the performance of duties imposed on the Department of the Interior by those statutory authorities as defined in Federal laws including, but not restricted to, the Federal Aid in Sport Fish Restoration Act (16 U.S.C. 777-777k), Fish and Wildlife Coordination Act (16 U.S.C. 661-667e), and the Fish and Wildlife Act of 1956 (16 U.S.C. 742a-742j) in furtherance of the Secretary of the Interior's statutory responsibilities for administration of the U.S. Fish and Wildlife Service's mission to conserve, protect, and enhance fish, wildlife, and plants and their habitats for the continuing benefit of the American people.

The Council will assist the Secretary and the Department by providing advice on activities to enhance fishery and aquatic resources.

Dated: May 28, 2010.
Ken Salazar,
Secretary of the Interior.

[FR Doc. 2010-14142 Filed 6-11-10; 8:45 am]

BILLING CODE 4310-55-P